DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 23, 2004.

Interested persons are invited to submit written comments regarding the subject matter of the investigations to the Director, Division of Trade Adjustment Assistance, at the address shown below, not later than February 23, 2004.

The petitions filed in this case are available for inspection at the Office of the Director, Division of Trade Adjustment Assistance, Employment and Training Administration, U.S. Department of Labor, Room C-5311, 200 Constitution Avenue, NW., Washington, DC 20210.

Signed at Washington, DC, this 5th day of February, 2004.
Timothy Sullivan,
Director, Division of Trade Adjustment Assistance.

Appendix
[Petitions instituted between 12/29/2003 and 01/16/2004]
TA-W | Subject firm (petitioners) | Location | Date of institution | Date of petition
53,885 | NTN-BCA Corp. (Comp) | Greensburg, IN | 12/29/2003 | 12/23/2003
53,886 | Fishing Vessel (F/V) Pacific Pacer (Comp) | Cordova, AK | 12/29/2003 | 12/22/2003
53,887 | Regal Beloit Corp. (Wkrs) | Grafton, WI | 12/29/2003 | 12/23/2003
53,888 | Artesyn Technologies (MN) | Redwood Falls, MN | 12/29/2003 | 12/23/2003
53,889 | PSC (Wkrs) | Eugene, OR | 12/29/2003 | 12/26/2003
53,890 | Arrow Terminals (USWA) | Aliquippa, PA | 12/29/2003 | 12/04/2003
53,891 | Kokusai Semiconductor Equipment Corp. (Co) | Portland, OR | 12/29/2003 | 12/23/2003
53,892 | IBM Global Services (Wkrs) | Costa Mesa, CA | 12/29/2003 | 12/20/2003
53,893 | Johnston Industries (Comp) | DeWitt, IA | 12/29/2003 | 12/04/2003
53,894 | Mediacopy (Wkrs) | El Paso, TX | 12/29/2003 | 12/22/2003
53,895 | Flexcon Company Inc. (Wkrs) | Spencer, MA | 12/29/2003 | 12/17/2003
53,896 | Hogslat, Inc. (Wkrs) | Newton Grove, NC | 12/29/2003 | 12/18/2003
53,897 | Louisiana Pacific Corp (Comp) | Deer Lodge, MT | 12/29/2003 | 12/22/2003
53,898 | Timken US Corporation (Wkrs) | Torrington, CT | 12/30/2003 | 12/29/2003
53,899 | Crane Lithography (Comp) | Cedarburg, WI | 12/30/2003 | 12/28/2003
53,900 | Pennsylvania Southwestern Railroad (USWA) | Midland, PA | 12/30/2003 | 12/04/2003
53,901 | Delaine Worsted Mills, Inc. (Comp) | Gastonia, NC | 12/30/2003 | 12/29/2003
53,902 | Technical Rubber Products, Inc. (Comp) | Rockford, TN | 12/30/2003 | 12/15/2003
53,903 | Carolina Shoe Co. (Wkrs) | Morganton, NC | 12/30/2003 | 12/22/2003
53,904 | Secutronex (53704) | Miami, FL | 12/30/2003 | 12/29/2003
53,905 | Finotex USA Corporation (FL) | Miami, FL | 12/30/2003 | 12/16/2003
53,906A | Dixie Chips, Inc. (Comp) | Brundidge, AL | 12/30/2003 | 12/29/2003
53,906 | Dixie Chips, Inc. (Comp) | Evergreen, AL | 12/30/2003 | 12/29/2003
53,907 | Phillips Plastics Corp. (Wkrs) | Menomonie, WI | 12/30/2003 | 12/22/2003
53,908 | Cal-Jac, Inc. (Comp) | Macon, MS | 12/31/2003 | 12/19/2003
53,909 | Lancer Partnership, Ltd. (Comp) | San Antonio, TX | 12/31/2003 | 12/15/2003
53,910 | American Standard (Comp) | Tiffin, OH | 12/31/2003 | 12/19/2003
53,911 | Scripto-Tokai Corp. (Wkrs) | Rancho Cucam., CA | 12/31/2003 | 12/18/2003
53,912 | AK Steel (Wkrs) | Butler, PA | 12/31/2003 | 12/31/2003
53,913 | Smead Manufacturing (Wkrs) | Hastings, MN | 12/31/2003 | 12/22/2003
53,914 | InterMetro Industries Corp. (Comp) | Cucamonga, CA | 12/31/2003 | 12/19/2003
53,915 | First Source Furniture Group (Wkrs) | Nashville, TN | 12/31/2003 | 12/26/2003
53,916 | Diamond Crown Co., Inc. (Comp) | New York, NY | 12/31/2003 | 12/03/2003
53,917 | Kincaid Furniture Co. (Wkrs) | Hudson, NC | 12/31/2003 | 12/23/2003
53,918 | BMC Software, Inc. (Wkrs) | Houston, TX | 12/31/2003 | 12/23/2003
53,919 | Senco Products, Inc. (Comp) | Cincinnati, OH | 12/31/2003 | 12/23/2003
53,920 | Eaton Corporation (PACE) | Cleveland, OH | 12/31/2003 | 12/17/2003
53,921 | Pac-Tec, Inc. (Wkrs) | Heath, OH | 12/31/2003 | 12/19/2003
53,922 | K and R Products (CA) | Santa Cruz, CA | 12/31/2003 | 12/18/2003
53,923 | Agilent Technologies—QPO (Comp) | Portsmouth, NH | 12/31/2003 | 12/15/2003
53,924 | National Carbide Die (USWA) | McKeesport, PA | 12/31/2003 | 12/17/2003
53,925 | Avery Dennison (Comp) | Flowery Branch, GA | 12/31/2003 | 12/30/2003
53,926 | Shuler Brothers Chip Mill (State) | Opp, AL | 01/02/2004 | 12/29/2003
53,927 | Dixie Chips Inc. (Comp) | Evergreen, AL | 01/02/2004 | 12/29/2003
53,928 | Tech-Tran Corp. (Wkrs) | Rancocas, NJ | 01/02/2004 | 12/20/2003
53,929 | Fishing Vessel (F/V) Viking (Comp) | Cordova, AK | 01/02/2004 | 12/17/2003
53,930 | Medcases Inc. (Wkrs) | Philadelphia, PA | 01/02/2004 | 12/29/2003
53,931 | Service Corporation International (Wkrs) | Houston, TX | 01/02/2004 | 12/29/2003
53,932 | Corex Products Inc. (Comp) | Springfield, MA | 01/05/2004 | 01/02/2004
53,933 | Homak Professional Manufacturing Co (Comp) | Bedord Park, IL | 01/05/2004 | 01/02/2004
53,934 | Phillips Plastics Corps. (Wkrs) | Eau Claire, WI | 01/05/2004 | 12/31/2003
53,935 | Hiddenite Woodworks, Inc. (Comp) | Hiddenite, NC | 01/05/2004 | 12/26/2003
53,936 | Analytical Surveys Inc. (State) | San Antonio, TX | 01/05/2004 | 12/22/2003
53,937 | Johnson Controls Inc. (Comp) | Laurel Hill, NC | 01/05/2004 | 12/30/2003
53,938A | Oshkosh B'Gosh Retail, Inc. (Wrks) | Oshkosh, WI | 01/05/2004 | 12/29/2003
53,938B | OBG Product Development and Sales (Wrks) | Oshkosh, WI | 01/05/2004 | 12/29/2003
53,938 | Oshkosh B'Gosh Corp. (Wkrs) | Oshkosh, WI | 01/05/2004 | 12/29/2003
53,939 | Tippins Inc. (Wkrs) | Pittsburgh, PA | 01/05/2004 | 01/05/2004
53,940 | PolyOne Corporation (Comp) | DeForest, WI | 01/05/2004 | 12/29/2003
53,941 | Murata Electronics North America (Wkrs) | State College, PA | 01/06/2004 | 01/06/2004
53,942 | Winalta USA (Wkrs) | Linton, IN | 01/06/2004 | 12/15/2003
53,943 | Teletech Holdings, Inc. (Wkrs) | Uniontown, PA | 01/06/2004 | 12/28/2003
53,944 | Universal Lighting Technologies (Comp) | Madison, AL | 01/06/2004 | 12/30/2003
53,945 | BASF Corp. (Wkrs) | Belvidere, NJ | 01/06/2004 | 01/05/2004
53,946 | Tyco Healthcare/Ludlow (Comp) | Huntington Bch., CA | 01/06/2004 | 01/05/2003
53,947 | James Kenney Vineyards (Wkrs) | Giants Pass, OR | 01/06/2004 | 01/05/2003
53,948 | Seagate Technology (Wkrs) | Oklahoma City, OK | 01/06/2004 | 01/05/2003
53,949 | American Fast Print (Wkrs) | Greenville, SC | 01/06/2004 | 12/19/2003
53,950 | F/V Lisa Lynn (Comp) | Anchorage, AK | 01/12/2004 | 12/31/2003
53,951 | Millennium A.R. Haire (Comp) | Thomasville, NC | 01/07/2004 | 01/06/2004
53,952 | Pass and Symour/Legrand (Comp) | San Antonio, TX | 01/07/2004 | 01/05/2003
53,953 | Cooper Standard Automotive (Wkrs) | Griffin, GA | 01/07/2004 | 01/06/2004
53,954 | Sappi Fine Paper (ME) | Skowhegan, ME | 01/07/2004 | 01/06/2004
53,955 | American Steel and Aluminum Corp. (Comp) | Middletown, PA | 01/07/2004 | 01/07/2004
53,956 | Tomken Enterprises, Inc. (Comp) | Hildebran, NC | 01/07/2004 | 12/28/2003
53,957 | H. Warshow and Sons, Inc. (Comp) | Tappahannock, VA | 01/07/2004 | 01/05/2004
53,958 | Motorola (Comp) | San Jose, CA | 01/07/2004 | 10/06/2003
53,959 | Bayer Corporation (Wkrs) | Pittsburgh, PA | 01/08/2004 | 01/06/2004
53,960 | Waukesha Kramer, Inc. (Wkrs) | Milwaukee, WI | 01/08/2004 | 01/07/2004
53,961 | Tyco Safety Products (Wkrs) | Westlake, OH | 01/08/2004 | 12/29/2003
53,962 | Wagner Plastics, Inc. (Comp) | Clinton, MA | 01/08/2004 | 01/06/2004
53,963 | YKK (USA), Inc. (Wkrs) | Macon, GA | 01/08/2004 | 12/30/2003
53,964 | Merit Knitting Mills Corp. (Wkrs) | Glen Dale, NY | 01/08/2004 | 12/23/2003
53,965 | Sangamon, Inc. (IL) | Taylorville, IL | 01/08/2004 | 01/07/2004
53,966 | Wellington Synthetic Fibers (Comp) | Leesville, SC | 01/08/2004 | 12/31/2003
53,967 | OSRAM Sylvania, Inc. (Wkrs) | Warren, PA | 01/08/2004 | 12/30/2003
53,968 | FMC Corporation (ICWU) | Tonawanda, NY | 01/08/2004 | 12/22/2003
53,969 | Flint River Textiles, Inc. (Comp) | Albany, GA | 01/09/2004 | 01/07/2004
53,970 | Tyson Foods, Inc. (Comp) | Augusta, ME | 01/09/2004 | 12/16/2003
53,971 | Bailey Manufacturing Corp. (ME) | Fryeburg, ME | 01/09/2004 | 11/25/2003
53,972 | Colonial Metals Co. (Comp) | Columbia, PA | 01/09/2004 | 01/08/2004
53,973 | Warner Electric, Inc. (USWA) | Roscoe, IL | 01/09/2004 | 01/05/2004
53,974 | General Chemical (DE) | Wilmington, DE | 01/09/2004 | 01/08/2004
53,975 | Weavexx Corp. (Comp) | Farmville, VA | 01/09/2004 | 12/19/2003
53,976 | Fieldstone Ltd./Central Notion Co. (Wkrs) | Providence, RI | 01/09/2004 | 12/31/2003
53,977 | Risdon-AMS (Comp) | Danbury, CT | 01/12/2004 | 01/08/2004
53,978 | Academy Die Casting and Plating Co. (Comp) | Edison, NJ | 01/12/2004 | 01/05/2004
53,979 | Gorecki Manufacturing (Wkrs) | Pierz, MN | 01/12/2004 | 01/12/2004
53,980 | Backsplash (Comp) | White Salmon, WA | 01/12/2004 | 12/18/2003
53,981 | Marine Accessories Corp. (Comp) | Tempe, AZ | 01/12/2004 | 01/06/2004
53,982 | Bassett Furniture Industries, Inc. (Comp) | Hiddenite, NC | 01/12/2004 | 01/08/2004
53,983 | Archibald Candy Co. d/b/a Fannie May (IBT) | Chicago, IL | 01/12/2004 | 01/07/2004
53,984 | GA Financial Assurance (VA) | Lynchburg, VA | 01/12/2004 | 01/05/2004
53,985 | Vishay BLH, Inc. (Wkrs) | Canton, MA | 01/12/2004 | 01/08/2004
53,986 | Retango West, Inc. (Comp) | Brooklyn, NY | 01/12/2004 | 01/06/2004
53,987 | Air Products and Chemicals, Inc. (Comp) | Pace, FL | 01/12/2004 | 12/31/2003
53,988 | Coperion Corporation (NJ) | Ramsey, NJ | 01/12/2004 | 01/05/2004
53,989 | Wellington Die Division (Wkrs) | Wellington, OH | 01/12/2004 | 12/29/2003
53,990 | Quadelle Textile Corp. (Comp) | W. New York, NJ | 01/12/2004 | 12/12/2003
53,991 | Omni Tech. Corporation (Wkrs) | Pewaukee, WI | 01/12/2004 | 01/09/2004
53,992 | Twin City Leather Co., Inc. (UNITE) | Gloversville, NY | 01/13/2004 | 01/12/2003
53,993 | Newell Rubbermaid (USWA) | Wooster, OH | 01/13/2004 | 01/12/2004
53,994 | Union Tools, Inc (AFLCIO) | Frankfort, NY | 01/13/2004 | 01/12/2004
53,995 | Lake Region Manufacturing, Inc. (Wkrs) | Pittsburgh, PA | 01/13/2004 | 01/12/2004
53,996 | Eljer Plumbingware (Comp) | Salem, OH | 01/13/2004 | 01/12/2004
53,997 | Hollister, Inc. (UAW) | Kirksville, MO | 01/13/2004 | 01/07/2004
53,998 | Tri Star Knitting (AL) | Cedar Bluff, AL | 01/14/2004 | 01/12/2004
53,999 | Collins and Aikman (Wkrs) | Greenville, SC | 01/14/2004 | 01/07/2004
54,000 | Arkansas Catfish Growers (Comp) | Hollandale, MS | 01/14/2004 | 01/12/2004
54,001 | Yellow Book USA (Wkrs) | Effingham, IL | 01/14/2004 | 01/07/2004
54,002 | Axiohm TPG (Wkrs) | Riverton, WY | 01/14/2004 | 01/05/2004
54,003 | MDF Moulding and Mill Work (Comp) | Idabel, OK | 01/14/2004 | 01/12/2004
54,004 | Maxxim Medical (Comp) | Columbus, MS | 01/14/2004 | 12/18/2003
54,005 | Vermont Fasteners Mfg. (VT) | Swanton, VT | 01/14/2004 | 01/09/2004
54,006 | American Safety Razor (IUE) | Verona, VA | 01/14/2004 | 01/13/2004
54,007 | M and M Manufacturing Industries (IBT) | Bensenville, IL | 01/14/2004 | 01/07/2004
54,008 | Unifine Dohler America (NJ) | Monmouth Junc., NJ | 01/14/2004 | 01/12/2004
54,009 | Oxford Drapery, Inc. (Comp) | Timmonsville, SC | 01/14/2004 | 01/12/2004
54,010 | Tri-Molded Plastic, Inc. (Wkrs) | Bayshore, NY | 01/14/2004 | 01/07/2004
54,011 | Owens Illinois (Wkrs) | Erie, PA | 01/14/2004 | 12/27/2003
54,012 | Perry/Judd's (GCIU) | Waterloo, WI | 01/15/2004 | 01/14/2004
54,013 | Sappi Fine Paper (Wkrs) | Cloquet, MN | 01/15/2004 | 01/12/2004
54,014 | Badger Equipment Co. (UAW) | Winona, MN | 01/15/2004 | 01/14/2004
54,015 | Sanmina-SCI (Comp) | Durham, NC | 01/15/2004 | 01/14/2004
54,016 | Doncasters New England Airfoil Products (Wkrs) | Farmington, CT | 01/15/2004 | 01/10/2004
54,017 | Pearson Performance Solutions (Wkrs) | Butler, PA | 01/15/2004 | 01/12/2004
54,018 | Tyco Plastics (Wkrs) | Fairmont, MN | 01/15/2004 | 01/14/2004
54,019 | Manchester Foundry (USWA) | N. Manchester, IN | 01/15/2004 | 01/10/2004
54,020 | Tri Star Precision, Inc. (Comp) | Gilberts, IL | 01/15/2004 | 01/14/2004
54,021 | Honeywell (Comp) | Pottsville, PA | 01/15/2004 | 01/14/2004
54,022 | Advanced Micro Devices (Wkrs) | Austin, TX | 01/15/2004 | 01/13/2004
54,023 | J and J Knitting Corp. (Wkrs) | Ridgewood, NY | 01/15/2004 | 01/08/2004
54,024 | Milford Marketing, Inc. (MI) | Franklin, MI | 01/15/2004 | 01/04/2004
54,025 | Columbia Showcase, Inc. (Wkrs) | Sun Valley, CA | 01/15/2004 | 12/22/2004
54,026 | Central Textiles, Inc. (Wkrs) | Pickens, SC | 01/15/2004 | 01/07/2004
54,027 | St. George Crystal Ltd. (Wkrs) | Jeannette, PA | 01/15/2004 | 01/13/2004
54,028 | Means Industries (PACE) | Vassar, MI | 01/15/2004 | 01/14/2004
54,029 | Symtech, Inc. (Wkrs) | Spartansburg, SC | 01/15/2004 | 01/08/2004
54,030 | Interstate Industries of Miss, LLC (Comp) | Kosciusko, MS | 01/16/2004 | 01/15/2004
54,031 | Del Monte, Inc. (IBT) | Toppenish, WA | 01/16/2004 | 01/15/2004
54,032 | Thermotech Co. (Comp) | El Paso, TX | 01/16/2004 | 01/12/2004
54,033 | Aluminum Color Industries (UAW) | Lowellville, OH | 01/16/2004 | 01/14/2004
54,034 | Andrew Corporation (Comp) | Dallas, TX | 01/16/2004 | 01/05/2004
54,035 | Hi-Country Foods (IBT) | Selah, WA | 01/16/2004 | 01/15/2004

[FR Doc. 04-2901 Filed 2-10-04; 8:45 am]

BILLING CODE 4510-30-M